DEPARTMENT OF TRANSPORTATION

Federal Aviation Administration

14 CFR Part 71

[Docket No. FAA-2012-0867; Airspace Docket No. 12-AGL-4]

RIN 2120-AA66

Proposed Modification of VOR Federal Airway V-170 in the Vicinity of Devils Lake, ND

AGENCY: Federal Aviation Administration (FAA), DOT.

ACTION: Notice of proposed rulemaking (NPRM).

SUMMARY: This action proposes to modify VHF Omnidirectional Range (VOR) Federal airway V-170 between Devils Lake, ND (DVL), and Jamestown, ND (JMS). The FAA is proposing this action to ensure the airway provides the necessary clearance from the western boundary of the newly established restricted area R-5402, Devils Lake, ND, to support non-radar separation requirements when the restricted area is active.

DATES: Comments must be received on or before October 22, 2012.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2012-0867 and Airspace Docket No. 12-AGL-4 at the beginning of your comments. You may also submit comments through the Internet at http://www.regulations.gov.

FOR FURTHER INFORMATION CONTACT: Colby Abbott, Airspace Policy & ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2012-0867 and Airspace Docket No. 12-AGL-4) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2012-0867 and Airspace Docket No. 12-AGL-4.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Central Service Center, Operations Support Group, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

The Minneapolis Air Route Traffic Control Center requested the establishment of a new VOR Federal airway between DVL and JMS, west of V-170, to provide necessary clearance from the western boundary of R-5402, established for hazardous laser training activities, in support of non-radar separation requirements. Their request proposed the new airway use the DVL VOR 180° (M) and JMS VOR 327° (M) radials to provide the required non-radar separation and airway clearance from R-5402, regardless of the restricted area status, as well as 15 degrees of separation from V-170. The Central Service Center (CSC) conducted a feasibility review of the request and recommended amending the existing V-170 airway between DVL and JMS instead of creating a new airway in that area.

The Feasibility Review Panel considered potential impacts to flight procedures, safety, environmental, air traffic control procedures, and other pending en route or terminal actions in their review, and determined that amending V-170 between DVL and JMS would be the best alternative. They also determined that inserting a slight “dogleg” to the west, in V-170 between DVL and JMS, would provide a non-radar routing clear of R-5402 and allow nonparticipating aircraft below 8,000 feet MSL to have unimpeded transit between DVL and JMS.

This proposed action to amend V-170 is expected to ensure availability of the airway between DVL and JMS regardless of restricted area status with minimal impact to the aviation community.

The Proposal

The FAA is proposing an amendment to Title 14 Code of Federal Regulations (14 CFR) part 71 to modify V-170 between Devils Lake, ND, and Jamestown, ND, by inserting a slight dogleg west of the current location. This action is proposed as a result of the V-170 airway width abeam R-5402 overlapping the western boundary of the recently established R-5402 and to retain the availability of the navigation route structure between DVL and JMS regardless of the activation status of R-5402.

The FAA proposes using the DVL VOR 187° (T)/180° (M) and JMS VOR 337° (T)/327° (M) radials to redefine the airway segment and establish the FARRM fix at the intersection of the DVL VOR 187° (T)/180° (M) and JMS VOR 337° (T)/327° (M) radials. The FARRM fix would be described as the intersection of those navigation aid radials in the legal description. Specifically, the V-170 description would be amended by replacing the “Jamestown, ND;” reference with “INT Devils Lake 187° (T)/180° (M) and Jamestown, ND, 337° (T)/327° (M) radials; Jamestown;”. The magnetic radial information would be removed in the final rule. This proposed modification to V-170 would add less than three nautical miles to the existing airway segment, ensure availability of V-170 between DVL and JMS regardless of the status of R-5402, reduce airspace complexity in the area, and enhance flight safety.

VOR Federal airways are published in paragraph 6010(a) of FAA Order 7400.9V dated August 9, 2011 and effective September 15, 2011, which is incorporated by reference in 14 CFR 71.1. The VOR Federal Airways listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it proposes to modify VOR Federal Airways in the vicinity of Devils Lake, ND.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9V, Airspace Designations and Reporting Points, dated August 9, 2011, and effective September 15, 2011, is amended as follows:

Paragraph 6010(a) Domestic VOR Federal Airways

* * * * *

V-170 [Amended]

From Devils Lake, ND; INT Devils Lake 187° (T)/180° (M) and Jamestown, ND, 337° (T)/327° (M) radials; Jamestown; Aberdeen, SD; Sioux Falls, SD; Worthington, MN; Fairmont, MN; Rochester, MN; Nodine, MN; Dells, WI; INT Dells 097° and Badger, WI, 304° radials; Badger; INT Badger 121° and Pullman, MI, 282° radials; Pullman; Salem, MI. From Erie, PA; Bradford, PA; Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded.

Issued in Washington, DC, on August 28, 2012.
Gary A. Norek,
Manager, Airspace Policy & ATC Procedures Group.

[FR Doc. 2012-21827 Filed 9-5-12; 8:45 am]

BILLING CODE 4910-13-P